NATIONAL SCIENCE FOUNDATION

Agency Information Collection Activities: Comment Request; National Science Foundation-Managed Honor Awards

AGENCY: National Science Foundation.

ACTION: Notice.

SUMMARY: The National Science Foundation (NSF) is announcing plans to renew this collection. In accordance with the requirements of the Paperwork Reduction Act of 1995, we are providing opportunity for public comment on this action. After obtaining and considering public comment, NSF will prepare the submission requesting Office of Management and Budget (OMB) clearance of this collection for no longer than 3 years.

DATES: Written comments on this notice must be received by November 9, 2020 to be assured consideration. Comments received after that date will be considered to the extent practicable. Send comments to the address below.

FOR FURTHER INFORMATION CONTACT: Suzanne H. Plimpton, Reports Clearance Officer, National Science Foundation, 2415 Eisenhower Avenue, Suite W18200, Alexandria, Virginia 22314; telephone (703) 292-7556; or send email to splimpto@nsf.gov. Individuals who use a telecommunications device for the deaf (TDD) may call the Federal Information Relay Service (FIRS) at 1-800-877-8339, which is accessible 24 hours a day, 7 days a week, 365 days a year (including Federal holidays).

SUPPLEMENTARY INFORMATION:

Title of Collection: National Science Foundation-Managed Honor Awards.

OMB Approval Number: 3145-0035.

Expiration Date of Approval: December 30, 2020.

Type of Request: Intent to seek approval to renew an information collection for three years.

Abstract: The National Science Foundation (NSF) administers several external awards, among them the President's National Medal of Science, the Alan T. Waterman Award, the National Science Board (NSB) Vannevar Bush Award, the NSB Public Service Award, the Presidential Awards for Excellence in Science, Mathematics and Engineering Mentoring (PAESMEM) program, and the Presidential Awards for Excellence in Mathematics and Science Teaching (PAEMST) program.

In 2003, to comply with E-government requirements, the nomination processes were converted to electronic submission through NSF's FastLane system or via other electronic systems as described in the individual nomination process. Individuals can now prepare nominations and references through www.fastlane.nsf.gov/honawards/ for all but the PAESMEM and PAEMST awards. First-time users must register on the Fastlane website using the link found in the upper right-hand corner above the “Log In” box before accessing all but the PAESMEM and PAEMST honorary award categories. For PAEMST nominations and applications are submitted on the PAEMST portal at www.paemst.org. For PAESMEM, nominations and applications are submitted on the PAESMEM portal at www.paesmem.net.

Use of the Information: The Foundation has the following honorary award programs:

President's National Medal of Science

Statutory authority for the President's National Medal of Science is contained in 42 U.S.C. 1881 (Pub. L. 86-209), which established the award and stated that “(t)he President shall . . . award the Medal on the recommendations received from the National Academy of Sciences or on the basis of such other information and evidence as . . . appropriate.”

Subsequently, Executive Order 10961 specified procedures for the Award by establishing a National Medal of Science Committee which would “receive recommendations made by any other nationally representative scientific or engineering organization.” On the basis of these recommendations, the Committee was directed to select its candidates and to forward its recommendations to the President.

In 1962, to comply with these directives, the Committee initiated a solicitation form letter to invite these nominations. In 1979, the Committee initiated a nomination form as an attachment to the solicitation letter. A slightly modified version of the nomination form was used in 1980.

The Committee has established the following considerations for selection of candidates:

a. The impact of an individual's body of work on the current state of his or her field of science or engineering;

b. Whether the individual's achievements are of an unusually significant nature in relation to the potential effects on the development of thought in his or her field of science or engineering;

c. Whether the nominee has demonstrated unusually distinguished service in the general advancement of science and/or engineering for the Nation, especially when accompanied by substantial contributions to the content of science;

d. The recognition of the nominee by peers within his or her community, and whether s/he is recognized for substantial impact in fields in addition to his/her discipline;

e. If the nominee has made contributions to innovation and industry;

f. Whether the nominee has demonstrated sustained influence on education through publications, teaching activities, outreach, mentoring, etc., and;

g. Whether the nominee's contributions have created significant positive impact for the Nation.

In 2003, the Committee changed the active period of eligibility to three years, including the year of nomination. After that time, candidates must be renominated with a new nomination package for them to be considered by the Committee.

Narratives are now restricted to three pages of text, as stipulated in the guidelines at: https://www.fastlane.nsf.gov/honawards/medalHome.do.

Alan T. Waterman Award

Congress established the Alan T. Waterman Award in August 1975 (42 U.S.C. 1881a (Pub. L. 94-86) and authorized NSF to “establish the Alan T. Waterman Award for research or advanced study in any of the sciences or engineering” to mark the 25th anniversary of the National Science Foundation and to honor its first Director. The annual award recognizes an outstanding young researcher in any field of science or engineering supported by NSF. In addition to a medal, the awardee receives a grant of $1,000,000 over a five-year period for scientific research or advanced study in the mathematical, physical, medical, biological, engineering, social, or other sciences at the institution of the recipient's choice.

The Alan T. Waterman Award Committee was established by NSF to comply with the directive contained in Pub. L. 94-86. The Committee solicits nominations from members of the National Academy of Sciences, National Academy of Engineering, scientific and technical organizations, and any other source, public or private, as appropriate.

In 1976, the Committee initiated a form letter to solicit these nominations. In 1980, a nomination form was used which standardized the nomination procedures, allowed for more effective Committee review, and permitted better staff work in a short period of time. On the basis of its review, the Committee forwards its recommendation to the Director, NSF, and the National Science Board (NSB).

Candidates must be U.S. citizens or permanent residents and must be 40 years of age or younger or not more than ten years beyond receipt of the Ph.D. degree by December 31 of the year in which they are nominated. Candidates should have demonstrated exceptional individual achievements in scientific or engineering research of sufficient quality to place them at the forefront of their peers. Criteria include originality, innovation, and significant impact on the field.

Vannevar Bush Award

The Vannevar Bush Award honors truly exceptional lifelong leaders in science and technology who have made substantial contributions to the welfare of the Nation through public service activities in science, technology, and public policy. The National Science Board established this award in 1980 in the memory of Vannevar Bush, who served as a science advisor to President Franklin Roosevelt during World War II, helped to establish Federal funding for science and engineering as a national priority during peacetime, and was behind the creation of the National Science Foundation.

The Vannevar Bush Award recipient is selected annually by the National Science Board's Subcommittee on Honorary Awards (AWD), which is established to solicit nominations from scientific, engineering, and educational societies and institutions, in both the public and private sectors.

Candidates for the Vannevar Bush Award should have demonstrated outstanding leadership and accomplishment in meeting at least two of the following selection criteria:

1. Candidates must be U.S. citizens.

2. Distinguished himself/herself through public service activities in science and technology.

3. Pioneered the exploration, charting, and settlement of new frontiers in science, technology, education, and public service.

4. Demonstrated leadership and creativity that have inspired others to distinguished careers in science and technology.

5. Contributed to the welfare of the Nation and humankind through activities in science and technology.

6. Demonstrated leadership and creativity that has helped mold the history of advancements in the Nation's science, technology, and education.

Nomination Submissions must include:

1. A current curriculum vita without publications (no more than 5 pages).

2. A narrative statement (no more than 8 pages) addressing the candidate's activities and contributions related to the selection criteria.

3. A proposed award citation addressing the candidate's activities in and contributions to national public service activities in science, technology, and public policy.

4. Contact information for award candidate and nominator (mailing address, email address, and phone number).

5. Two reference letters (no more than 2 pages each) from individuals familiar with the candidate's accomplishments, and not affiliated with the candidate's home institution. Letters should be submitted by email to nsbawards@nsf.gov on letterhead as a PDF file.

Nominations remain active for three years, including the year of nomination. After that time, candidates must be renominated with a new nomination for them to be considered by the selection committee.

NSB Public Service Award

The National Science Board established the Public Service Award in November 1996 to honor individuals and groups that have made substantial contributions to increasing public understanding of science and engineering in the United States. These contributions may be in a wide variety of areas that have the potential of contributing to public understanding of and appreciation for science and engineering—including mass media, education and/or training programs, and entertainment.

Eligibility includes any individual or group (company, corporation or organization) that has increased the public understanding of science or engineering.

Candidates for the NSB Public Service Award should have demonstrated outstanding leadership and accomplishment in meeting the following selection criteria:

1. Increased the public's understanding of the processes of science and engineering through scientific discovery, innovation, and its communication to the public.

2. Encouraged others to help raise the public understanding of science and technology.

3. Promoted the engagement of scientists and engineers in public outreach and scientific literacy.

4. Contributed to the development of broad science and engineering policy and its support.

5. Influenced and encouraged the next generation of scientists and engineers.

6. Achieved broad recognition outside of the candidate's area of specialization.

7. Fostered awareness of science and technology among broad segments of the population.

Note: Members of the U.S. Government are not eligible for this award.

Nomination Procedures

Nominations for an individual must include:

1. A current curriculum vita without publications (no more than 3 pages).

2. A narrative statement (no more than 5 pages) addressing the following:

a. The candidate's public service activities in science and engineering, and

b. the candidate's contributions to public understanding of science and engineering, as they relate to the selection criteria.

3. Contact information of candidate and nominator (mailing address, email address, phone number).

Nominations must be submitted by email to: nsbawards@nsf.gov.

Nominations for a group must include:

1. A narrative statement (no more than 5 pages) addressing the following:

a. The group's activities, and how it accomplishes the selection criteria for the award,

b. length of years of the program,

c. number and type of individuals served by the group's activities; and

d. data on the success of the program (if available).

2. Contact information of candidate and nominator (mailing address, email address, phone number).

3. Reference letters are optional, and up to 3 letters (no more than to 2 pages each) may be submitted on letterhead as a PDF file.

Nominations must be submitted by email to: nsbawards@nsf.gov.

Nominations remain active for three years, including the year of nomination. After that time, candidates must be re-nominated with a new nomination for them to be considered by the selection committee.

Presidential Awards for Excellence in Science, Mathematics and Engineering Mentoring (PAESMEM) Program

In 1996, the White House, through the National Science and Technology Council (NSTC) and the Office of Science and Technology Policy (OSTP), established the Presidential Awards for Excellence in Science, Mathematics and Engineering Mentoring (PAESMEM) program. The program, administered on behalf of the White House by the National Science Foundation, seeks to identify outstanding mentoring efforts or programs designed to enhance the participation of groups (women, minorities and persons with disabilities as well as groups from low socioeconomic regions) underrepresented in science, mathematics and engineering. The awardees will serve as exemplars to their colleagues and will be leaders in the national effort to more fully develop the Nation's human resources in science, mathematics and engineering. This award is managed at NSF by the Directorate for Education and Human Resources (EHR).

The award will be made to U.S. citizens or U.S. permanent residents based on the following: (1) An individual who has demonstrated outstanding and sustained mentoring and effective guidance to a significant number of early career STEM professionals, students at the K-12, undergraduate, or graduate education level or (2) to an organization that, through its programming, has enabled a substantial number of students underrepresented in science, mathematics and engineering to successfully pursue and complete the relevant degree programs as well as mentoring of early career STEM professionals. Nominees must have served in a mentoring role for at least five years. Nominations are reviewed for impact, significance of the mentoring throrganizational awards must demonstrate rigorous evaluation and/or assessment during the five-year period of the mentoring activity.

Award Ceremony

The awardees are hosted for two days in Washington, DC, for celebratory activities. Recipients of the PAESMEM award receive a monetary award in the amount of $10,000 from NSF and a commemorative Presidential certificate. If scheduling permits, the President meets with the mentors for a photo opportunity at the White House. The Director of OSTP and the Director of NSF present the awards to the mentors at an awards ceremony.

Presidential Award for Excellence in Mathematics and Science Teaching

The Presidential Award for Excellence in Mathematics and Science Teaching (PAEMST) is the highest recognition that a kindergarten through 12th-grade mathematics or science teacher may receive for outstanding teaching in the United States. Enacted by Congress in 1983, this program authorizes the President to bestow 108 awards with two per state or jurisdiction, assuming there are qualified applicants. Awards are given in the science category, which includes science and engineering, and the mathematics category, which includes mathematics, technology and computer science. In even-numbered y]ears, nominations are accepted for elementary teachers (grades K-6); in odd-numbered years, secondary teachers (grades 7-12) are nominated. This award is managed at NSF by the Directorate for Education and Human Resources (EHR).

Nomination Criteria

A teacher may be nominated by a principal, another teacher, students, members of the community, or the general public. Self-nominations are allowed. Awardees must be either U.S. Citizens or U.S. Permanent Residents. A Nominee must meet the following criteria to apply:

• Teach science, technology, engineering, mathematics, and/or computer science as part of his or her contracted teaching responsibilities at the K-6 grade level in a public (including charter) or private school;

• hold at least a bachelor's degree from an accredited institution;

• be a full-time employee of his or her school or school district as determined by state and district policies, with responsibilities for teaching students no less than 50% of the school's allotted instructional time;

• have at least five years of full-time employment as a K-12 teacher prior to the academic school year in which they apply, with science, technology, engineering, mathematics, and/or computer science teaching duties each of the past five years;

• teach in one of the 50 states, the District of Columbia, the Commonwealth of Puerto Rico, the Department of Defense Education Activity schools, or the U.S. Territories as a group (American Samoa, Guam, Commonwealth of the Northern Mariana Islands, and U.S. Virgin Islands);

• be a U.S. citizen or permanent resident; and

• not have received the PAEMST award at the national level in any prior competition or category.

Application Process

• Applicants complete a narrative on five dimensions of outstanding teaching (content knowledge, pedagogy, assessment, leadership and professional development), submit a video of one class, supplemental materials, and references cited. Three letters of reference including one from a school official are required, along with a resume or biographical sketch.

• The applicant completes an application and submits for state review during the academic year. The nomination period runs through the application cycle up to one month before the application deadline.

Review of Nominations

• State coordinators convene state selection committees of prominent mathematicians, scientists, mathematics and science educators, and past awardees to select up to three mathematics category and three science category finalists for recognition at the state level and for submission to NSF. To ensure consistency, state selection committees review their applications using the same criteria and scoring information that was approved by OSTP. Following the state review applicants are given two weeks to complete an addendum to the state application that addresses state reviewer comments.

• NSF (EHR) convenes a National Selection Committee of prominent mathematicians, scientists, mathematics and science educators, and past awardees that review the application packets of the state finalists including the addendum and make recommendations to NSF. NSF reviews the state selection committee recommendations and recommends to OSTP, when possible, one awardee in the mathematics category and one in the science category for all eligible states/jurisdictions. Alternatively, NSF may recommend two awardees from a discipline in a jurisdiction, when warranted.

Award Ceremony

The awardees are hosted for 3-4 days in Washington, DC, for a variety of professional development sessions and celebratory activities. Each awardee receives a citation signed by the President and $10,000 from NSF. If scheduling permits, the President meets the teachers for a photo opportunity at the White House. The Director of OSTP and the Director of NSF present the citations to the teachers at an awards ceremony. Awardees also have the opportunity to meet their congressional representatives and education representatives from other federal agencies.

Estimate of Burden: These are annual award programs with application deadlines varying according to the program. Public burden also may vary according to program; however, across all the programs, it is estimated that each submission will average 19 hours per respondent. If the nominator is thoroughly familiar with the disciplinary background of the nominee, time spent to complete the nomination may be considerably reduced.

Respondents: Individuals, businesses or other for-profit organizations, universities, non-profit institutions, and Federal and State governments.

Estimated Number of Responses per Award: 1800 responses, broken down as follows: For the President's National Medal of Science, 80; for the Alan T. Waterman Award, 70; for the Vannevar Bush Award, 20; for the Public Service Award, 30; for the PAESMEM, 200; and 1400 for the PAEMST.

Estimated Total Annual Burden on Respondents: 41,350 hours, broken down by 1,600 hours for the President's National Medal of Science (20 hours per 80 respondents); 1,400 hours for the Alan T. Waterman Award (20 hours per 70 respondents); 300 hours for the Vannevar Bush Award (15 hours per 20 respondents); 450 hours for the Public Service Award (15 hours per 30 respondents); 4,000 hours for the PAESMEM (20 hours per 200 respondents); and 33,600 hours for the PAEMST (24 hours per 1400 respondents).

Frequency of Responses: Annually.

Comments: Comments are invited on (a) whether the proposed collection of information is necessary for the proper performance of the functions of the Agency, including whether the information shall have practical utility; (b) the accuracy of the Agency's estimate of the burden of the proposed collection of information; (c) ways to enhance the quality, utility, and clarity of the information on respondents, including through the use of automated collection techniques or other forms of information technology; (d) ways to minimize the burden of the collection of information on those who are to respond, including through the use of appropriate automated, electronic, mechanical, or other technological collection techniques or other forms of information technology.

Dated: September 1, 2020.
Suzanne H. Plimpton,
Reports Clearance Officer, National Science Foundation.

[FR Doc. 2020-19689 Filed 9-4-20; 8:45 am]

BILLING CODE 7555-01-P